DEPARTMENT OF ENERGY

Federal Energy Regulatory Commission

[Docket No. RP04-209-000]

KO Transmission Company; Notice of Proposed Changes in FERC Gas Tariff

March 10, 2004.

Take notice that on March 5, 2004, KO Transmission Company (KOT) tendered for filing as part of its FERC Gas Tariff, Original Volume No. 1, Fourteenth Revised Sheet No. 10, to become effective April 1, 2004.

KOT states that the proposed change is made pursuant to the provisions of Section 24, Transportation Retainage Adjustment of the General Terms and Conditions (GT&C) of KOT's Tariff, which provides that KOT may adjust its fuel retainage as operating conditions warrant. KOT states that the proposed change will lower KOT's retainage to 1.00%, from its current rate of 1.05%.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-604 Filed 3-15-04; 8:45 am]

BILLING CODE 6717-01-P